OFFICE OF NATIONAL DRUG CONTROL POLICY

Information Quality Guidelines and Request for Comments

AGENCY: Office of National Drug Control Policy.

ACTION: Proposed information quality guidelines; request for comments.

SUMMARY: The Office of Management and Budget (OMB) has directed that federal agencies make available on their websites guidelines for ensuring and maximizing the quality, objectivity, utility, and integrity of information (including statistical information) disseminated by federal agencies, as well as administrative mechanisms allowing affected persons to seek and obtain correction of information maintained and disseminated by the agency that does not comply with the guidelines. The Office of Drug Control Policy (ONDCP) now seeks public comments on the following draft guidelines covering pre-dissemination information quality control and an administrative mechanism for requests for correction of information publicly disseminated by ONDCP.

DATES: Submit comments on or before July 24, 2002.

ADDRESSES: Address comments concerning these proposed guidelines to Dr. Terry S. Zobeck of the Office of Planning and Budget, Office of National Drug Control Policy (ONDCP), 750 17th Street, NW, 7th Floor, Washington, DC 20503. Facsimile: 202-385-6729.

Submit electronic comments to tzobeck@ondcp.eop.gov.

FOR FURTHER INFORMATION CONTACT: Dr. Terry S. Zobeck, 202-395-6736.

For the reasons discussed in the summary, the Office of National Drug Policy proposes to issue these guidelines pursuant Section 515 of the Paperwork Reduction Act (44 U.S.C. 3502(1) et seq.).

Office of National Drug Control Policy Information Quality Guidelines

The authority for issuing these guidelines is: 44 U.S.C. 3502(1) et seq.: OMB Guidelines for Ensuring and Maximizing the Quality, Objectivity, Utility, and Integrity of Information Disseminated by Federal Agencies, 66 FR No. 189 at 49728, updated in 67 FR 369, and corrected in 67 FR 8452.

Section 1. Procedures for Ensuring and Maximizing the Quality, Objectivity, Utility, and Integrity of Information Prior to Dissemination.

(a) Objectivity and Utility of Information

(b) Integrity of Information

Section 2. Requests for Correction of Information Publicly Disseminated by the Office of Management and Budget.

Section 3. Procedures for Requesting Reconsideration.

Section 4. Definitions.

Dated: May 29, 2002.
Linda V. Priebe,
Assistant General Counsel.

Information Quality Guidelines

The Office of National Drug Control Policy (ONDCP) publishes these guidelines in accordance with the Guidelines for Ensuring and Maximizing the Quality, Objectivity, Utility, and Integrity of Information Disseminated by Federal Agencies (Agency-wide Guidelines) published by Office of Management and Budget (OMB) in the Federal Register in 66 FR No. 189 at 49718 on Friday, September 28, 2001, updated in 67 FR 369 on Thursday, January 3, 2002 and corrected in 67 FR 8452 on February 22, 2002. These published guidelines were issued pursuant to Section 515 of the Paperwork Reduction Act (44 U.S.C. 3502(1) et seq.). In response to the legislation and the published guidelines, ONDCP identifies the following policies and procedures for ensuring and maximizing the quality, objectivity, utility, and integrity of information disseminated by OMB; and it hereby establishes additional procedures for affected persons to seek and obtain correction of information maintained and disseminated by ONDCP that does not comply with standards set out in the Agency-wide Guidelines.

Section I. Procedures for Ensuring and Maximizing the Quality, Objectivity, Utility, and Integrity of Information Prior to Dissemination

In Agency-wide Guidelines, quality is defined as an encompassing term comprising utility, objectivity, and integrity.

(a) Objectivity and Utility of Information

(1) As defined in Section IV, below, objectivity is a measure of whether disseminated information is accurate, clear, complete, and unbiased; utility refers to the usefulness of the information to its intended audience. ONDCP is committed to disseminating reliable and useful information. Before disseminating information, ONDCP staff and officials should subject such draft information to an extensive review process. It is the primary responsibility of the particular ONDCP Office (hereafter referred to as “Lead Component”) drafting information intended for dissemination to pursue the most knowledgeable and reliable sources reasonably available to confirm the objectivity and utility of such information.

(2) Much of the information ONDCP disseminates consists of or is based on information submitted to ONDCP by other federal government agencies. ONDCP expects that agencies will subject information submitted to ONDCP to adequate quality control measures. In drafting the material to be disseminated, the Lead Component should review and verify the data submitted by the agencies, as necessary and appropriate. ONDCP also originates information based on research, assessments, and other efforts supporting drug policy development. The Lead Component should review and verify the data, as necessary and appropriate. Underlying information upon which the disseminated material is based may be subject to these guidelines only if that information is published by ONDCP. Being subject to these guidelines does not necessarily mean that the material published by ONDCP is a policy statement of the U.S. government. ONDCP contracts with organizations to conduct research in support of drug policy, but their results are not influenced by ONDCP policy. Each Component that disseminates information should maintain verification files of materials that it originates.

(3) In seeking to assure the objectivity and utility of the information it disseminates, ONDCP should generally follow a basic clearance process coordinated by the Lead Component drafting information intended for dissemination. The quality control process places responsibility for action upon the Lead Component. The Lead Component is encouraged to consult with all Components throughout ONDCP having substantial interest or expertise in the material proposed to be disseminated. Where appropriate, substantive input also should be sought from other offices within the Executive Office of the President (EOP), other government agencies, non-government organizations, and the public.

(4) The Lead Component should consider the uses of the information from both the perspective of ONDCP and the public. When it is determined that the transparency of information is relevant for assessing the information's usefulness from the public's perspective, the Lead Component should ensure that transparency is appropriately addressed.

(5) When the Lead Component determines that the information it will disseminate is influential scientific, financial, or statistical information, extra care should be taken to include a high degree of transparency about data and methods to meet the Agency-wide Guidelines' requirement for the reproducibility of such information. In this context, a high degree of transparency for published information means that the methodology used to derive the results is readily understandable to persons experienced in the appropriate field of study. In determining the appropriate level of transparency, the Lead Component should consider the types of data that can practicably be subjected to a reproducibility requirement given ethical, feasibility, and confidentiality constraints. In making this determination, the Lead Component should hold analytical results to an even higher standard than original data.

(6) The Component responsible for the dissemination of information should generally take the following basic steps to assure the objectivity and utility of the information to be disseminated:

(a) Prepare a draft of the document after consulting the necessary parties, including government and non-government sources, as appropriate;

(b) Determine necessary clearance points;

(c) Determine where the final decision shall be made;

(d) Determine whether peer review would be appropriate and, if necessary, coordinating such review;

(a) Obtain clearances; and

(f) Resolve issues related to information “objectivity” and “utility” and, if necessary, presenting the matter to higher authority.

(7) Hard-copy public dissemination of information and all information published on ONDCP's website <www.WhiteHouseDrugPolicy.gov> shall occur only after clearances are obtained from all appropriate Components and, as appropriate, the Office of the Chief-of-Staff.

(8) The quality control procedures followed by ONDCP should vary with the nature of the information and the manner of its distribution.

(9) These guidelines focus on procedures for the dissemination of information, as those terms are defined herein. Accordingly, procedures specifically applicable to forms of communication outside the scope of these guidelines, such as those for correspondence or press releases, among others, are not included.

Conclusion: ONDCP will maximize the quality of the information it disseminates, in terms of objectivity and utility, first by looking for input from a range of sources and perspectives, to the extent practicable under the circumstances, and second by subjecting draft materials to a review process involving as many Components and offices as may be in a position to offer constructive input, as well as other offices within the Executive Office of the President (EOP) and other government agencies.

(b) Integrity of Information

(1) Integrity refers to the security of information—protection of the information from unauthorized, unanticipated, or unintentional modification—to prevent information from being compromised through corruption or falsification.

(2) Within the Executive Office of the President (EOP), the Office of Administration has substantial responsibility for ensuring the integrity of information as defined in these guidelines. ONDCP also has a Management and Administration Office that coordinates and works with the EOP Office of Administration to ensure the integrity of information. These offices implement and maintain new computer software and hardware systems and provide operational support for systems and system users.

(3) Computer security is the responsibility of the EOP Office of Administration's Chief Information Officer, Information Assurance Directorate. This Office oversees all matters relating to information integrity, including the design and implementation of the security architecture for the EOP, periodic audits of security architecture components, and review and approval of changes to the technical baseline. Per law and ONDCP policy, EOP's information technology (IT) security policy, procedures, and controls are risk-based, cost-effective, and incorporated into the lifecycle planning of every IT investment. Additionally, the Office: assesses risks to its systems and implements appropriate security controls; reviews annually the security of its systems; and develops plans to remediate all security weaknesses found in independent evaluations and other security audits and reviews.

(4) As an agency under the EOP, ONDCP is an integral part of the overall EOP network, and is an active participant in all aspects of information integrity at EOP. ONDCP adheres to both law and ONDCP IT security policies, along with EOP security policies and operational processes for the protection of ONDCP's data and information. This includes ensuring that controls to protect the security of information (and the integrity of information) are risk-based, cost-effective, and incorporated into the life-cycle planning of every IT investment. ONDCP's systems are reviewed annually in accordance with existing law and policy and corrective action plans are developed to address all security weaknesses, such as integrity issues.

Section II. Requests for Correction of Information Publicly Disseminated by the Office of Management and Budget

ONDCP works continuously to be responsive to users of its information and to ensure quality. In furtherance of these objectives, when ONDCP receives any information from the public that raises questions about the quality of the information it has disseminated, ONDCP duly considers corrective action.

(a) Persons seeking to correct information affecting them that was publicly disseminated by ONDCP may submit such requests to the ONDCP Chief-of-Staff, at Executive Office of the President, Office of National Drug Control Policy, Washington, DC 20503. Persons should address requests to “ONDCP Chief-of-Staff” and clearly indicate that the communication is a “Request for Correction” under Section 515 of the Treasury and General Government Appropriation Act for Fiscal Year 2001. Persons should specify the information that is being contested, why the information is being contested, the specific aspect of the information that needs to be corrected, an explanation of how they are affected by the information, how the information identified does not comply with ONDCP guidelines, and what corrective action is sought. Persons should provide all supporting documentation necessary for ONDCP to resolve the complaint.

(b) If the information disseminated by ONDCP and contested by an affected person was previously disseminated by another Federal agency in virtually identical form, then the complaint should be directed to the originating agency.

(c) Requests will be received by the ONDCP Chief-of-Staff. Typically, requests raising substantive issues will be forwarded to the Component within ONDCP responsible for the subject area.

(d) These guidelines apply only to requests submitted as outlined in Section II, paragraph (a) above. These guidelines will not be applied to any other form of request and also may not be applied to a request submitted consistent with the procedures outlined above, if ONDCP determines:

(1) It is not submitted by an affected person for the correction of publicly disseminated information of the Office of National Drug Control Policy, as those terms are defined in these guidelines, or

(2) The information identified in Section II, paragraph (a) above has not been provided in full. All requests submitted as outlined in Section II, paragraph (a) that are not excluded under the criteria identified in (1) or (2) of this section, will be considered “covered requests” and will be processed under these guidelines.

(e) If ONDCP determines that a request is not covered by these guidelines, it will so advise the requester within 60 days, unless there is a reasoned basis for an extension. If a request is deemed frivolous, no response will be made.

(f) For covered requests, the Component reviewing the request will give the request due consideration, including a review of the disseminated information at issue and other materials, as appropriate. Where the reviewing Component or office determines that the information publicly disseminated by ONDCP warrants correction, it should consider appropriate corrective measures recognizing the potential implications for ONDCP and the United States.

(g) When considering covered requests to determine whether a corrective action is appropriate, the reviewing Component may consider the factors in Section 2, paragraph (d) in addition to the following factors:

(1) The significance of the information involved, and

(2) The nature and extent of the request and the public benefit of making the requested correction.

(h) If ONDCP determines that a request is covered by these guidelines, but that corrective action is unnecessary or is otherwise inappropriate, ONDCP will notify the requestor of its determination within 60 days, unless there is a reasoned basis for an extension.

(i) If ONDCP determines that a request is covered by these guidelines and that corrective action is appropriate, it will notify the requestor of its determination and what action has been or will be taken within 60 days, unless there is a reasoned basis for an extension. Subject to applicable law, rules and regulations, corrective measures may be taken through a number of forms, including (but not limited to): Personal contacts via letter or telephone, form letters, press releases or postings on the ONDCP Web site, <www.WhiteHouseDrugPolicy.gov>, to correct a widely disseminated error or address a frequently raised request. Corrective measures, where appropriate, should be designed to provide reasonable notice to affected persons of such correction.

Section III. Procedures for Requesting Reconsideration

(a) The following procedures are available to an affected person who has filed a covered request for correction of public information in accordance with Section II, above; who received notice from the ONDCP Chief-of-Staff of ONDCP's determination; and who believes that the ONDCP did not take appropriate corrective action. Requests determined by ONDCP to be not covered by the guidelines and requests determined to be frivolous will not be reconsidered under these provisions. These procedures apply to information disseminated by ONDCP on or after October 1, 2002.

(b) To request reconsideration, persons should clearly indicate that the communication is a Request for Reconsideration; should reference Section 515 of the Treasury and General Government Appropriations Act for Fiscal Year 2001; and should include a copy of the request for correction previously submitted to ONDCP and ONDCP's response. Resubmission should be made to the ONDCP Chief-of-Staff by mail using the contact information in Section II, paragraph (a), above. Requests for Reconsideration must be submitted within thirty (30) days of the date of ONDCP's notification to the requester of the disposition of the underlying request for correction.

(c) ONDCP's Chief-of-Staff will consider the request for reconsideration applying the standards and procedures set out in Section II, and will make a determination regarding the request. In most cases, the requestor will be notified of the determination and, if appropriate, the corrective action to be taken, within 60 days. ONDCP will give reasonable notice to affected persons of any corrections made.

Section IV. Definitions

(a) Affected persons are those who may benefit or be harmed by the disseminated information. This includes both: (1) Persons seeking to address information about themselves or about other persons to whom they are related or associated; and (2) persons who use the information.

(b) Dissemination means agency initiated or sponsored distribution of information to the public (see 5 CFR 1320.3(d) “Conduct or Sponsor”). Dissemination does not include distributions of information or other materials that are:

(1) Intended for government employees or agency contractors or grantees;

(2) Intended for U.S. Government agencies;

(3) Produced in responses to requests for agency records under the Freedom of Information Act, the Privacy Act, the Federal Advisory Committee Act or similar law;

(4) Correspondence or other communication limited to individuals or to other persons, within the meaning of paragraph 7, below; or

(5) Communications such as press releases, interviews, speeches, and similar statements.

Also excluded from the definition are archival records; public filings; responses to subpoena or compulsory document productions; or documents prepared and released in the context of adjudicative processes. These guidelines do not impose any additional requirements on agencies during adjudicative proceedings and do not provide parties to such adjudicative proceedings any additional rights of challenge or appeal.

(c) Influential, when used in the phrase “influential scientific, financial, or statistical information,” refers to disseminated information that ONDCP determines will have a clear and substantial impact on important public policies or important private sector decisions.

(d) Information, for purposes of these guidelines, including the administrative mechanism described in Sections II and III, above, means any communication or representation of facts or data, in any medium or form, including textual, numerical, graphic, cartographic, narrative, or audiovisual forms. This definition does not include:

(1) Opinions or policy, where the presentation makes clear that the statements are subjective opinions, rather than facts. Underlying information upon which the opinion or policy is based may be subject to these guidelines only if that information is published by ONDCP;

(2) Information originated by, and attributed to, non-ONDCP sources, provided ONDCP does not expressly rely upon it. Examples include: non-U.S. government information reported and duly attributed in materials prepared and disseminated by ONDCP; hyperlinks on ONDCP's website to information that others disseminate; and reports of advisory committees published on ONDCP's website;

(3) Statements related solely to the internal personnel rules and practices of ONDCP and other materials produced for ONDCP employees, contractors, or agents;

(4) Descriptions of the agency, its responsibilities and its organizational components;

(5) Statements, the modification of which might cause harm to the national security, including harm to the national defense or foreign relations of the United States;

(6) Statements of Administration policy; however, any underlying information published by ONDCP upon which a statement is based may be subject to these guidelines;

(7) Testimony or comments of ONDCP officials before courts, administrative bodies, Congress, or the media;

(8) Investigatory material compiled pursuant to U.S. law or for law enforcement purposes in the United States; or

(9) Statements which are, or which reasonably may be expected to become, the subject of litigation, whether before a U.S. or foreign court or in an international arbitral or other dispute resolution proceeding.

(e) Integrity refers to the security of information—protection of the information from unauthorized access or revision, to prevent the information from being compromised through corruption or falsification.

(f) Objectivity addresses whether disseminated information is being presented in an accurate, clear, complete, and unbiased manner, including background information where warranted by the circumstances.

(g) Person means an individual, partnership, association, corporation, business trust, or legal representative, an organized group of individuals, a regional, national, State, territorial, tribal, or local government or branch thereof, or a political subdivision of a State, territory, tribal, or local government or a branch of a political subdivision, or an international organization;

(h) Quality is an encompassing term comprising utility, objectivity, and integrity. Therefore, the guidelines sometimes refer these four statutory terms, collectively, as quality.

(i) Utility refers to the usefulness of the information to its intended users, including the public.

[FR Doc. 02-14013 Filed 6-5-02; 8:45 am]

BILLING CODE 3180-02-P